DEPARTMENT OF TRANSPORTATION

Federal Aviation Administration

Notice of Intent To Rule on Application 02-04-C-00-BWI To Impose and Use the Revenue From a Passenger Facility Charge (PFC) at Baltimore/Washington International Airport, Baltimore, MD

AGENCY: Federal Aviation Administration (FAA), DOT.

ACTION: Notice of intent to rule on application.

SUMMARY: The FAA proposes to rule and invites public comment on the application to impose and use the revenue from a PFC at Baltimore/Washington International Airport under the provisions of the Aviation Safety and Capacity Expansion Act of 1990 (Title IX of the Omnibus Budget Reconciliation Act of 1990)(Public Law 101-508) and Part 158 of the Federal Aviation Regulations (14 CFR part 158).

DATES: Comments must be received on or before June 28, 2002.

ADDRESSES: Comments on this application may be mailed or delivered in triplicate to the FAA at the following address: Federal Aviation Administration, Washington Airport District Office, 23723 Air Freight Ln., Suite 210, Dulles, VA 20166.

In addition, one copy of any comments submitted to the FAA must be mailed or delivered to Beverly K. Swaim-Staley, Acting Executive Director, of the Maryland Aviation Administration (MAA) at the following address: P.O. Box 8766, BWI Airport, Baltimore, MD 21240-0766.

Air carriers and foreign air carriers may submit copies of written comments previously provided to the MAA under section 158.23 of Part 158.

FOR FURTHER INFORMATION CONTACT: Eleanor Schifflin, PFC Program Manager, Federal Aviation Administration, Airports Division, AEA-610, 1 Aviation Plaza, Jamaica 11434 at (718) 553-3354. The application may be reviewed in person at this same location.

SUPPLEMENTARY INFORMATION: The FAA proposes to rule and invites public comment on the application to impose and use the revenue from a PFC at Baltimore/Washington International Airport under the provisions of the Aviation Safety and Capacity Expansion Act of 1990 (Title IX of the Omnibus Budget Reconciliation Act of 1990) (Public Law 101-508) and Part 158 of the Federal Aviation Regulations (14 CFR part 158).

On March 26, 2002, the FAA determined that the application to impose and use the revenue from a PFC submitted by MAA was substantially complete within the requirements of section 158.25 of Part 158. The FAA will approve or disapprove the application, in whole or in part, no later than July 1, 2002.

The following is a brief overview of the application.

PFC Application No.: 02-04-C-00-BWI.

Level of the proposed PFC: $4.50

Proposed charge effective date: May 1, 2004.

Proposed charge expiration date: May 1, 2011.

Total estimated PFC revenue: $371,417,115.

Brief description of proposed project(s):

—Terminal Roadway Expansion and Improvement

—Terminal Pedestrian Access Expansion and Improvement

—15R Parallel Taxiway and Airfield Ramp Construction

—CUTE for International Terminal Fitout

—SMGCS Equipment—Phase 1

Class or classes of air carriers which the public agency has requested not be required to collect PFCs: On-demand air taxi/commercial operators (ATCO) filing form 1800-31.

Any person may inspect the application in person at the FAA office listed above under FOR FURTHER INFORMATION CONTACT and at the FAA regional airports office located at: 1 Aviation Plaza, Airports Division, AEA-610, John F. Kennedy International Airport, Jamaica, New York, 11434.

In addition, any person may, upon request, inspect the application, notice and other documents germane to the application in person at MAA.

Eleanor Schifflin,
Manager, PFC Program, Eastern Region.

[FR Doc. 02-13375 Filed 5-28-02; 8:45 am]

BILLING CODE 4910-13-M